DEPARTMENT OF COMMERCE

International Trade Administration

[A-122-822]

Notice of Extension of Time Limit for Preliminary Results of the Antidumping Duty Administrative Review: Corrosion-Resistant Carbon Steel Flat Products From Canada

AGENCY: Import Administration, International Trade Administration, Department of Commerce.

EFFECTIVE DATE: March 4, 2003.

SUMMARY: The Department of Commerce (the Department) is extending the time limit for the preliminary results of the antidumping duty administrative review of corrosion-resistant carbon steel flat products from Canada until no later than September 1, 2003. This review covers the period August 1, 2001, through July 31, 2002. The extension is made pursuant to section 751(a)(2)(B)(iv) of the Tariff Act of 1930, as amended (“the Act”).

FOR FURTHER INFORMATION CONTACT: Mark Hoadley or Julio A. Fernandez, Office of AD/CVD Enforcement 7, Import Administration, International Trade Administration, U.S. Department of Commerce, 14th Street and Constitution Avenue, NW., Washington, DC 20230, at (202) 482-3148 or (202) 482-0961, respectively.

SUPPLEMENTARY INFORMATION:

Background

The Department of Commerce (the Department) received a request on August 30, 2002, from Bethlehem Steel Corporation, National Steel Corporation, and United States Steel Corporation (petitioners) for an administrative review of the antidumping duty order on corrosion-resistant carbon steel flat products from Canada, with respect to Stelco, Inc. (Stelco) and Dofasco, Inc. (Dofasco). On September 25, 2002, the Department published a notice of initiation of this administrative review for the period of August 1, 2001, through July 31, 2002 (67 FR 60210).

Extension of Time Limits for Preliminary Results

Pursuant to section 751(a)(3)(A) of the Act, the Department shall issue preliminary results in an administrative review of an antidumping duty order within 245 days after the last day of the anniversary month of the date of publication of the order. The Act further provides, however, that the Department may extend that 245-day period to 365 days if it determines it is not practicable to complete the review within the foregoing time period.

In light of the complexity of analyzing Stelco and Dofasco's cost calculations, and Stelco's inputs obtained from affiliated parties, it is not practicable to complete this review by the current deadline of May 3, 2003.

Therefore, in accordance with section 751(a)(3)(A) of the Act, the Department is extending the time limit for the preliminary results by 120 days, until no later than August 31, 2003. However, as this date falls on a weekend, the due date will fall on the next business day, September 1, 2003. The final results continue to be due 120 days after the publication of the preliminary results.

This notice is issued and published in accordance to sections 751(a)(1) and 777(I)(1) of the Act.

Dated: February 25, 2003.
Richard O. Weible,
Acting Deputy Assistant Secretary for Import Administration, Group III.

[FR Doc. 03-5056 Filed 3-3-02; 8:45 am]

BILLING CODE 3510-DS-S